DEPARTMENT OF AGRICULTURE

Food and Nutrition Service

Request for Information: Child Nutrition Programs Tribal Pilot Projects

AGENCY: Food and Nutrition Service (FNS), USDA.

ACTION: Notice; request for information.

SUMMARY: This is a Request for Information to inform the U.S. Department of Agriculture's (USDA's) development of the Child Nutrition Programs Tribal Pilot Projects, as authorized in the Consolidated Appropriations Act, 2024. The Act authorized USDA to conduct pilot projects to allow one or more Tribes or Tribal organizations to administer one or more Child Nutrition Programs, assuming the roles and responsibilities typically held by State agencies. USDA will use comments received in response to this Request for Information to inform the application process, and eligibility and selection criteria, for the Child Nutrition Tribal Pilot Projects. USDA invites feedback from Tribes; Tribal organizations, leaders, representatives, and associations; State agencies that administer the Child Nutrition Programs; and others interested in opportunities to promote Tribal sovereignty in the operation of the Child Nutrition Programs. This notice is not a request for proposals and does not commit the Government to issue a solicitation, make an award, or pay any costs associated with responding to this announcement. All submitted information will remain with the Government and will not be returned.

DATES: Written comments must be received on or before March 24, 2025.

ADDRESSES: USDA invites the submission of the requested information through one of the following methods:

• Federal eRulemaking Portal (preferred method): Go to http://www.regulations.gov. Follow the online instructions for submitting comments.

• Mail: Send written comments to the Child Nutrition Programs, USDA Food and Nutrition Service, Braddock Metro Center II, 1320 Braddock Place, Alexandria, VA 22314.

All comments submitted in response to this Request for Information will be included in the record and will be made available to the public. Please be advised that the substance of the comments and the identity of the individuals or entities submitting the comments will be subject to public disclosure. All responses will become part of the public record and will not be held confidential. USDA will make the comments publicly available via http://www.regulations.gov.

FOR FURTHER INFORMATION CONTACT: Heather Hopwood, School Meals Policy Division, Child Nutrition Programs, USDA Food and Nutrition Service, 703-305-2054.

SUPPLEMENTARY INFORMATION:

Child Nutrition Programs Administration

Federal Child Nutrition Programs are administered by the U.S. Department of Agriculture (USDA) Food and Nutrition Service (FNS) and help to ensure that participants have access to nutritious meals and snacks in schools, summer programs, child and adult care centers, family day care homes, and afterschool programs.

Administering the Child Nutrition Programs requires partnership at many levels. The Richard B. Russell National School Lunch Act specifies that the Federal Government enters into agreements with State agencies to administer the Child Nutrition Programs within each State.¹ USDA provides administrative funds to State agencies that administer the Child Nutrition Programs.² State agencies, in turn, establish agreements with local Program operators, such as school districts and community organizations, which operate the Child Nutrition Programs and serve meals to child and adult participants in their communities. State agencies establish statewide policies and procedures for administering the Child Nutrition Programs, consistent with Federal requirements; provide policy guidance, training, and technical assistance to local Program operators; monitor key aspects of performance by conducting comprehensive reviews; and report consolidated meal counts to FNS for reimbursement funds. FNS provides reimbursement to the State agencies, and State agencies are responsible for paying the Federal reimbursement to each local Program operator, including Tribal Program operators. In some States, more than one State agency administers the Child Nutrition Programs. For example, in a single State, one State agency may administer the National School Lunch Program, while another State agency administers the Child and Adult Care Food Program. Nationwide, there are 70 State agencies that administer the Child Nutrition Programs. Under the Tribal Pilot Projects, Tribes and/or Tribal organizations will directly administer one or more Child Nutrition Programs, assuming the roles and responsibilities typically held by State agencies.

¹ For more information, see the Richard B. Russell National School Lunch Act, 42 U.S.C. 1756.

² For more information about State Administrative Expense Funds, see 7 CFR part 235, available at: https://www.ecfr.gov/current/title-7/subtitle-B/chapter-II/subchapter-A/part-235.

Child Nutrition Tribal Pilot Projects

Section 758 of the Consolidated Appropriations Act, 2024, Public Law 118-42 (“The Act”), provided $2 million for Tribal Pilot Projects that will permit Indian Tribes and/or Tribal organizations to administer Child Nutrition Programs, assuming the roles and responsibilities typically held by State agencies.³ The Act authorized a maximum of 10 Tribal Pilot Projects, to operate for up to two years, with grants ranging from $10,000-$100,000 per school year. The Act specifies that the following entities may operate Tribal Pilot Projects:

³ “Indian Tribe” has the meaning given the term in section 4 of the Indian Self-Determination and Education Assistance Act (25 U.S.C. 5304).

• an Indian Tribe, as defined by section 4 of the Indian Self-Determination and Assistance Act (25 U.S.C. 5304);

• a Tribal organization approved by an Indian Tribe;

• a Tribal educational agency;

• a consortium of Indian Tribes; or

• a partnership between an Indian Tribe and either:

○ a State educational agency,

○ a local educational agency,

○ a Tribal educational agency, or

○ the Bureau of Indian Education.

Grantees may administer one or more of the following Child Nutrition Programs:

• National School Lunch Program, as authorized by the Richard B. Russell National School Lunch Act (42 U.S.C. 1769, “NSLA”);

• School Breakfast Program, established by the Child Nutrition Act of 1966 (42 U.S.C. 1773);

• Child and Adult Care Food Program, as established under section 17 of the NSLA (42 U.S.C. 1766); and/or

• Summer Food Service Program, as established under section 13 of the NSLA (42 U.S.C. 1761).

Finally, grantees may administer Child Nutrition Programs in the following locations:

• a school funded by the Bureau of Indian Affairs (as defined in section 1141 of the Education Amendments of 1978 (25 U.S.C. 2021)); ⁴

⁴ The Education Amendments of 1978 (25 U.S.C. 2021) defines the term “Bureau-funded school” to mean (A) a Bureau school; (B) a contract or grant school; or (C) a school for which assistance is provided under the Tribally Controlled Schools Act of 1988 [25 U.S.C. 2501 et seq.].

• a school (as defined in section 12(d) of the Richard B. Russell National School Lunch Act (42 U.S.C. 1760(d)) that is on or near an Indian reservation; or

• an early child care and education facility.

Input From Tribal Communities

Tribal input is critical to ensure that the Tribal Pilot Projects reflect the needs of grantees and the communities they serve. In June 2024, FNS engaged in Nation-to-Nation consultation with Tribal leaders to gather input on the Tribal Pilot Projects. This input also helped to develop this Request for Information.⁵ To gather additional input, FNS will organize meetings and listening sessions with Tribes, groups that represent Tribal food sovereignty, Tribal Child Nutrition Program operators, and State agencies that administer Child Nutrition Programs in States that share boundaries with present-day reservations.

⁵ FNS participated in a Nation-to-Nation Consultation with Tribal leaders on Self-Determination in Food on June 5, 2024, at the National Congress of American Indians' Mid-Year Convention in Cherokee, North Carolina. Additional information is available at: https://www.usda.gov/sites/default/files/documents/usda-food-self-determination-framing-paper.pdf.

FNS will use information gathered in response to this request to develop a process under which eligible Tribes and/or Tribal organizations may apply to operate a Tribal Pilot Project. This Request for Information will also help FNS understand what (if any) support eligible Tribes and Tribal organizations may need to successfully operate a Tribal Pilot Project, and to determine how the Tribal Pilot Projects will be evaluated.

Maximizing the Value of Public Feedback

USDA invites commenters to respond to any or all of the questions below. Responses to the questions below will be especially helpful to FNS as the Agency works to implement the Child Nutrition Tribal Pilot Projects.⁶ FNS encourages public comment on these questions and seeks any other information relevant to the Child Nutrition Tribal Pilot Projects. FNS seeks public input to ensure that the Tribal Pilot Projects support Tribal sovereignty and nutrition security and best serve the communities in which they will operate. With these general interests in mind, FNS seeks input on the following questions:

⁶ Section 758 of the Consolidated Appropriations Act, 2024, Public Law 118-42 provides $2 million for pilot projects to Tribes and/or Tribal organizations to operate Child Nutrition Programs as State agencies. The Act authorized a maximum of 10 pilot projects, to operate for up to two years, in Bureau of Indian Education-funded schools, schools on or near Indian reservations, or in early child care and education facilities. Grants from $10,000-$100,000 per school year are authorized.

Questions for Commenters

1. The Consolidated Appropriations Act, 2024, identifies the entities that may operate and implement the Tribal Pilot Projects. What, if any, additional criteria should be established for a Tribe and/or Tribal organization to be considered eligible to participate in the pilot projects?

2. Are there any specific criteria that should be prioritized in the selection process? For example, should FNS give priority to a Tribe or Tribal organization with experience operating a Child Nutrition Program, or other FNS nutrition assistance program, or to a pilot project that is implemented by a group of Tribes or Tribal organizations?

3. A Tribe or Tribal organization may partner with a State educational agency, a local educational agency, a tribal educational agency, or the Bureau of Indian Education to administer Child Nutrition Programs.

a. How might Tribes or Tribal organizations partner with each of these entities?

b. Should FNS consider any criteria or parameters regarding partnerships?

4. Considering the State agency roles and responsibilities referenced in the Child Nutrition Programs Administration section of this Request for Information, what support (if any) might Tribes and Tribal organizations need to implement the Tribal Pilot Projects and administer one or more Child Nutrition Programs?

5. Given the amount of funding available and timeframe for implementation, should FNS:

a. Limit grantees to administering only one Child Nutrition Program?

b. Permit grantees to administer only part of a Child Nutrition Program? If yes, what opportunities or challenges might partial administration present?

6. How can FNS best ensure that Tribes or Tribal organizations have access to staff, technology, and financial support needed to successfully administer Child Nutrition Programs?

7. Should FNS fund as many pilot projects as possible (up to 10) in the first year? Or should FNS fund a limited number of projects in the first year, with future projects funded in subsequent years, to incorporate best practices and lessons learned as pilot projects evolve?

8. What outcomes should FNS measure to evaluate the Tribal Pilot Projects? How should FNS measure sustainability or feasibility of long-term implementation?

9. Is there anything else FNS should consider when implementing the Tribal Pilot Projects?

Disclaimers: This is a Request for Information. This is not a Request for Proposals or a Request for Applications and is not to be construed as a commitment by the U.S. Government to issue any solicitation or Notice of Funding Opportunity, or ultimately award a contract or assistance agreement based on this Request for Information, or to pay for any information voluntarily submitted as a result of this request. The USDA posts its competitive business opportunities on www.grants.gov. It is the potential offeror's/applicant's responsibility to monitor these sites for announcements of new opportunities. Please note that responding to this Request for Information will not give any advantage to any organization or individual in any subsequent competition. Responses may be used by USDA without restriction or limitation, therefore proprietary information should not be sent.

Collection of Information Requirements: This document does not impose information collection requirements, that is, reporting, recordkeeping or third-party disclosure requirements. However, this document does contain a general solicitation of comments in the form of a Request for Information. In accordance with implementing regulations of the Paperwork Reduction Act of 1995, specifically 5 CFR 1320.3(h)(4), this general solicitation is exempt from the Paperwork Reduction Act. Facts or opinions submitted in response to general solicitations of comments from the public, published in the Federal Register or other publications, regardless of the form or format thereof, provided that no person is required to supply specific information pertaining to the commenter other than that necessary for self-identification, as a condition of the Agency's full consideration, are not generally considered information.

Tameka Owens,
Acting Administrator and Assistant Administrator, Food and Nutrition Service.

[FR Doc. 2024-30577 Filed 12-20-24; 8:45 am]

BILLING CODE 3410-30-P